DEPARTMENT OF DEFENSE

Department of the Navy

Notice of Intent To Grant Exclusive Patent License; Lewis Machine & Tool Co. Inc.

AGENCY: Department of the Navy, DOD.

ACTION: Notice.

SUMMARY: The invention listed below is assigned to the United States Government as represented by the Secretary of the Navy. The Department of the Navy hereby gives notice of its intent to grant to Lewis Machine & Tool Co. Inc. a revocable, nonassignable, exclusive license to practice in the United States, the Government-Owned invention described below:

U.S. Patent 6,543,172 (Navy Case 83187): issued April 8, 2003, entitled “BUTTSTOCK ASSEMBLY WITH REMOVABLE AND SEALABLE STORAGE TUBES.”

DATES: Anyone wishing to object to the grant of this license has fifteen (15) days from the date of this notice to file written objections along with supporting evidence, if any.

ADDRESSES: Written objections are to be filed with Naval Surface Warfare Center, Crane Division, Code 054, Bldg 1, 300 HWY 361, Crane, IN 47522-5001.

FOR FURTHER INFORMATION CONTACT: Mr. Brian Bailey, Naval Surface Warfare Center, Crane Division, Code 054, Bldg 1, 300 HWY 361, Crane, IN 47522-5001, telephone 812-854-2378.

(Authority: 35 U.S.C. 207, 37 CFR Part 404.)

Dated: December 28, 2004.
J.H. Wagshul,
Commander, Judge Advocate General's Corps, U.S. Navy, Federal Register Liaison Officer.

[FR Doc. 05-310 Filed 1-6-05; 8:45 am]

BILLING CODE 3810-FF-P